DEPARTMENT OF TRANSPORTATION

Federal Aviation Administration

14 CFR Part 71

[Docket No. FAA-2021-0816; Airspace Docket No. 21-ANM-27]

RIN 2120-AA66

Modification of Class D and Class E Airspace, and Establishment of Class E Airspace; Southwest Oregon Regional Airport, OR; Correction

AGENCY: Federal Aviation Administration (FAA), DOT.

ACTION: Final rule; correction.

SUMMARY: The FAA is correcting a final rule that appeared in the Federal Register on March 3, 2022. The rule modified the Class D and Class E surface airspace, established Class E airspace designated as an extension to Class D & E surface areas, Class E airspace beginning at 700 feet above the surface, removed navigational aids (NAVAIDs) from text headers, and made administrative changes to the legal descriptions at Southwest Oregon Regional Airport, North Bend, OR. The Final Rule did not explain the purposeful removal of Class E airspace beginning at 1,200 feet above the surface, nor did it properly exclude the Sunnyhill Airport cut-out. This action adds verbiage explaining the removal of Class E airspace beginning at 1,200 feet above the surface, and corrects the legal description for the newly established Class E airspace designated as an extension to Class D & E surface areas to properly exclude Sunnyhill Airport, OR.

DATES: Effective 0901 UTC, May 19, 2022. The Director of the Federal Register approves this incorporation by reference action under 1 CFR part 51, subject to the annual revision of FAA Order 7400.11 and publication of conforming amendments.

FOR FURTHER INFORMATION CONTACT: Nathan A. Chaffman, Federal Aviation Administration, Western Service Center, Operations Support Group, 2200 S 216th Street, Des Moines, WA 98198; telephone (206) 231-3460.

SUPPLEMENTARY INFORMATION:

History

The FAA published a final rule in the Federal Register (87 FR 11955; March 3, 2022) for Docket FAA-2021-0816, which modified the Class D and Class E surface airspace, established Class E airspace designated as an extension to Class D & E surface areas, modified the Class E airspace beginning at 700 feet above the surface, removed navigational aids (NAVAIDs) from text headers, and made administrative changes to the legal descriptions at Southwest Oregon Regional Airport, North Bend, OR. Subsequent to publication, the FAA identified that the removal of Class E airspace beginning at 1,200 feet above the surface at the airport was not disclosed. This airspace was removed as it is not needed at Southwest Oregon Regional Airport. The Bend E6 en route domestic airspace area beginning at 1,200 feet above the surface provides sufficient containment to accommodate arriving instrument flight rules (IFR) operations at 1,500 feet and higher above the surface and departing IFR operations from the point they reach 1,200 feet above the surface. Additionally, it was discovered after publication of the Final Rule that the legal description for the Class E airspace designated as an extension to Class D & E surface areas did not properly exclude the Sunnyhill Airport, OR cut-out. This action corrects those errors.

Class D, Class E2, Class E4, and Class E5 airspace designations are published in paragraphs 5000, 6002, 6004, and 6005, respectively, of FAA Order JO 7400.11F, dated August 10, 2021, and effective September 15, 2021, which is incorporated by reference in 14 CFR 71.1. The Class D and Class E airspace designations listed in this document will be published subsequently in FAA Order JO 7400.11.

Correction to Final Rule

Accordingly, pursuant to the authority delegated to me, Amendment of Class D and Class E airspace, and Establishment of Class E airspace; Southwest Oregon Regional Airport, North Bend, OR, published in the Federal Register of March 3, 2022 (87 FR 11955), FR Doc. 2022-04326, is corrected as follows:

§ 71.1 [Corrected]

1. On page 11957, in the first column, beginning on line 8, the legal description for ANM OR E4 is corrected to read:

ANM OR E4 North Bend, OR [New]

Southwest Oregon Regional Airport, OR

(Lat. 43°25′01″ N, long. 124°14′49″ W)

Sunnyhill Airport, OR

(Lat. 43°28′59″ N, long. 124°12′10″ W)

That airspace extending upward from the surface within 3.6 miles north and 3.5 miles south of the 092° bearing from the airport, extending from the Southwest Oregon Regional Airport Class D 4.2-mile radius to 11.7 miles east of the airport, excluding that airspace within a 0.9-mile radius of Sunnyhill Airport, and within 2.0 miles southeast and 2.1 miles northwest of the 242° bearing from the airport, extending from the Class D 4.2-mile radius to 9.4 miles southwest of the airport.

Issued in Des Moines, Washington, on March 11, 2022.
B.G. Chew,
Acting Group Manager, Operations Support Group, Western Service Center.

[FR Doc. 2022-05620 Filed 3-21-22; 8:45 am]

BILLING CODE 4910-13-P